DEPARTMENT OF TRANSPORTATION

Federal Motor Carrier Safety Administration

[Docket No. FMCSA-2006-26367]

Motor Carrier Safety Advisory Committee (MCSAC); Public Meeting

AGENCY: Federal Motor Carrier Safety Administration (FMCSA), DOT.

ACTION: Notice of advisory committee meeting.

SUMMARY: FMCSA announces that its MCSAC will meet on Monday and Tuesday, June 12-13, 2017, to provide recommendations to the Agency concerning: Highly automated commercial vehicles (HACVs), the development of the Agency's fiscal year (FY) 2018-2022 strategic plan, and the review of the Federal Motor Carrier Safety Regulations (FMCSRs) to identify potential opportunities to reduce regulatory burdens while ensuring that Federal safety programs continue to achieve safety outcomes. The meeting is open to the public for its entirety.

DATES: The meeting will be held Monday-Tuesday, June 12-13, 2017, from 9:15 a.m. to 4:30 p.m., Eastern Daylight Time (EDT), at the U.S. Department of Transportation Headquarters, 1200 New Jersey Avenue SE., Washington, DC 20590. Members of the public planning to attend should email FMCSA at the contact information listed below by June 7, 2017. Members of the MCSAC and the public should arrive at 8:45 a.m. to facilitate clearance through DOT security. Copies of the MCSAC Task Statement and an agenda for the entire meeting will be made available in advance of the meeting at https://www.fmcsa.dot.gov/mcsac.

FOR FURTHER INFORMATION CONTACT: Ms. Shannon L. Watson, Senior Advisor to the Associate Administrator for Policy, Federal Motor Carrier Safety Administration, U.S. Department of Transportation, 1200 New Jersey Avenue SE., Washington, DC 20590, (202) 385-2395, mcsac@dot.gov.

Services for Individuals with Disabilities: For information on facilities or services for individuals with disabilities or to request special assistance at the meeting, contact Mr. Eran Segev at (617) 494-3174 or eran.segev@dot.gov, by Wednesday, June 7, 2017.

SUPPLEMENTARY INFORMATION:

I. Background

MCSAC

MCSAC was established to provide FMCSA with advice and recommendations on motor carrier safety programs and motor carrier safety regulations. MCSAC is composed of 20 voting representatives from safety advocacy, safety enforcement, labor, and industry stakeholders of motor carrier safety. The diversity of the Committee ensures the requisite range of views and expertise necessary to discharge its responsibilities. The Committee operates as a discretionary committee under the authority of the U.S. Department of Transportation (DOT), established in accordance with the provisions of the Federal Advisory Committee Act (FACA), as amended, 5 U.S.C. App. 2. See FMCSA's MCSAC Web site for additional information about the committee's activities at http://fmcsa.dot.gov/mcsac.

Task 17-1: Highly Automated Commercial Vehicles

Highly automated commercial vehicles (HACVs) are those in which the vehicle can take full control of the driving tasks in at least some circumstances. HACVs hold enormous potential benefits for safety, mobility, and sustainability.

In January 2014, SAE International (SAE) published Standard J3016, “Taxonomy and Definitions for Terms Related to On-Road Motor Vehicle Automated Driving Systems” to simplify communication and facilitate collaboration within the technical and policy communities for automated driving. The Standard defines more than a dozen key terms and provides full descriptions and examples for each of six levels of driving automation. The SAE definitions divide vehicles into levels based on “who does what, when.” Generally:

• At SAE Level 0, the human driver does everything.

• At SAE Level 1, an automated system on the vehicle can sometimes assist the human driver conduct some parts of the driving task.

• At SAE Level 2, an automated system on the vehicle can actually conduct some parts of the driving task, while the human continues to monitor the driving environment and performs the rest of the driving task.

• At SAE Level 3, an automated system can both actually conduct some parts of the driving task and monitor the driving environment in some instances, but the human driver must be ready to take back control when the automated system requests.

• At SAE Level 4, an automated system can conduct the driving task and monitor the driving environment, and the human need not take back control, but the automated system can operate only in certain environments and under certain conditions.

• At SAE Level 5, the automated system can perform all driving tasks, under all conditions that a human driver could perform them.

Using the SAE levels described above, there is a distinction between Levels 0-2 and 3-5 based on whether the human operator or the automated system is primarily responsible for monitoring the driving environment. The term “highly automated vehicle” represents SAE Levels 3-5 vehicles with automated systems that are responsible for monitoring the driving environment.

Public discussions regarding HACVs have become much more prominent in recent months as developers continue efforts to demonstrate and test the viability of advanced driver assistance systems on large commercial vehicles. FMCSA encourages the development of these advanced safety technologies for use on commercial vehicles and, at the same time, recognizes the need to ensure that testing and operation of these advanced safety systems is conducted in a manner that ensures the highest level of safety for everyone involved—and most importantly, for the motoring public.

Sections 390.17 and 393.3 of the Federal Motor Carrier Safety Regulations (49 CFR parts 350-399) permit the use of additional equipment and accessories on CMVs beyond those which are minimally required by the regulations, provided that such equipment and accessories do not decrease the safety of operation of the CMVs on which they are used. While advanced driver assistance systems such as automatic emergency braking, lane departure warning, forward collision warning, and others are not currently required to be used on CMVs, the use of such systems is permitted provided they do not impair the effectiveness of the required safety systems.

In anticipation of the continued development of HACVs, FMCSA requests that the MCSAC provide recommendations concerning the issues FMCSA should consider to ensure that the Federal safety regulations provide appropriate standards for the safe operation of HACVs from design and development, through testing and deployment. Specifically, the MCSAC would consider the application of the following regulatory provisions in title 49 CFR to HACV operations: Part 383 (Commercial Driver's Licenses); part 391 (Qualifications of Drivers); sections 392.80 and 392.82 (use of electronic devices); part 395 (Hours of Service of Drivers); and part 396 (Inspection, Repair, and Maintenance).

Because the FMCSRs include certain requirements that could be considered an obstacle to the on-road testing of HACVs, the operation of some HACVs on a public roadway without a person in the driver seat may occur only after some form of regulatory relief has been granted by FMCSA.

A pilot program is a formal project established by FMCSA in accordance with 49 CFR part 381 to test the effectiveness of certain safety strategies or technologies, using a group of carriers and/or drivers. A pilot program includes relief from specified regulations during the life of the pilot program, up to 3 years, to allow testing of alternatives. The safety measures in the pilot program must be designed to achieve a level of safety that is equivalent to or greater than the level of safety that would be obtained by complying with the regulations. Part 381 includes formal requirements for a pilot program.

An exemption is temporary relief from one or more provisions of the FMCSRs granted to a person or class of persons subject to the regulations, or who intend to engage in an activity that would make them subject to the regulations. An exemption may be granted for up to 5 years, and may be renewed. The exemption application must explain how the entity would achieve a level of safety that is equivalent to or greater than the level of safety that would be obtained by complying with the regulation. The formal requirements for a temporary exemption can also be found in part 381 of the FMCSRs.

FMCSA tasks the MCSAC with providing recommendations regarding prospective requirements for manufacturers or other entities requesting a pilot program and/or a temporary exemption to operate an HACV without a person in the driver's seat on a public roadway.

Task 17-2: 2018-2022 Strategic Plan

FMCSA is preparing to draft a new strategic plan to be released in 2018. The new strategic plan will provide a high-level overview of our mission, vision, strategic goals and outlook for FY2018-2022 based on Department's goals for the next several years. The MCSAC will be tasked with providing feedback on the current FMCSA strategic goals and objectives, and providing recommendations for additional goals, objectives, programs, and initiatives that the members believe should be highlighted in the next strategic plan.

Task 17-3: Regulatory Review

FMCSA has tasked the MCSAC with providing recommendations to the Agency concerning implementation of Executive Order 13777, “Enforcing the Regulatory Reform Agenda.” (82 FR 12285, March 1, 2017). The Agency requests that the MCSAC identify regulations that it believes to be (1) outdated, unnecessary, or ineffective or (2) impose costs that exceed benefits. The MCSAC's recommendations would be based on the members' understanding of the regulatory requirements, how the rules have been implemented by the industry and enforcement officials, and crash, injury, and fatality data. FMCSA will provide technical assistance to the MCSAC members, as needed.

II. Meeting Participation

Oral comments from the public will be heard throughout the meeting, at the discretion of the MCSAC chairman. Members of the public may submit written comments on the topics to be considered during the meeting by Wednesday, June 7, 2016, to Federal Docket Management System (FDMC) Docket Number FMCSA-2006-26367 using any of the following methods:

• Federal eRulemaking Portal: Go to http://www.regulations.gov. Follow the online instructions for submitting comments.

• Fax: 202-493-2251.

• Mail: Docket Management Facility; U.S. Department of Transportation, 1200 New Jersey Avenue SE., Room W12-140, Washington, DC 20590.

• Hand Delivery: U.S. Department of Transportation, 1200 New Jersey Avenue SE., West Building, Room W12-140, Washington, DC, between 9 a.m. and 5 p.m., E.T. Monday through Friday, except Federal holidays.

Issued on: May 22, 2017.
Larry W. Minor,
Associate Administrator for Policy.

[FR Doc. 2017-10761 Filed 5-25-17; 8:45 am]

BILLING CODE 4910-EX-P